DEPARTMENT OF ENERGY

Federal Energy Regulatory Commission

Combined Notice of Filings

Take notice that the Commission has received the following Natural Gas Pipeline Rate and Refund Report filings:

Filings Instituting Proceedings

Docket Numbers: CP13-9-000.

Applicants: Dominion Transmission, Inc.

Description: Application to Abandon Gas Transportation with NSTAR of Dominion Transmission, Inc.

Filed Date: 10/25/12.

Accession Number: 20121025-5162.

Comments Due: 5 p.m. ET 11/16/12.

Docket Numbers: RP13-266-000.

Applicants: Big Sandy Pipeline, LLC.

Description: Big Sandy Pipeline, LLC, et al. submit Petition for Temporary Waiver of Capacity Release Regulations and Related Tariff Provisions and Request for Expedited Action and Shortened Comment Period.

Filed Date: 11/8/12.

Accession Number: 20121108-5106.

Comments Due: 5 p.m. ET 11/14/12.

Docket Numbers: RP13-267-000.

Applicants: Granite State Gas Transmission, Inc.

Description: NAESB Version 2.0 Compliance Filing to be effective 12/1/2012.

Filed Date: 11/8/12.

Accession Number: 20121108-5113.

Comments Due: 5 p.m. ET 11/20/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP05-164-019.

Applicants: Equitrans, L.P.

Description: Equitrans, L.P. submits Annual Report on Fuel and Lost and Unaccounted for gas volumes for the period September 2011 through August 2012.

Filed Date: 11/1/12.

Accession Number: 20121101-5185.

Comments Due: 5 p.m. ET 11/13/12.

Docket Numbers: RP13-65-001.

Applicants: Destin Pipeline Company, L.L.C.

Description: NAESB Version 2.0 Compliance Filing 1 to be effective 12/1/2012.

Filed Date: 11/8/12.

Accession Number: 20121108-5121.

Comments Due: 5 p.m. ET 11/20/12.

Docket Numbers: RP13-9-001.

Applicants: Trunkline Gas Company, LLC.

Description: Compliance with RP13-9-000 Order to be effective 12/1/2012.

Filed Date: 11/8/12.

Accession Number: 20121108-5021.

Comments Due: 5 p.m. ET 11/20/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 09, 2012.
Nathaniel J. Davis, Sr.,
Deputy Secretary.

[FR Doc. 2012-28007 Filed 11-16-12; 8:45 am]

BILLING CODE 6717-01-P